POSTAL SERVICE

39 CFR Part 111

New Polywrap Standards for Automation-Rate Flat-Size Mail

AGENCY: Postal Service.

ACTION: Final rule.

SUMMARY: The Postal Service™ has simplified the standards for polywrap film on automation-rate flat-size mailpieces, so that customers only have to meet one set of standards instead of the previous two.

DATES: Effective Dates: February 4, 2007, for manufacturers; March 4, 2007, for mailers.

FOR FURTHER INFORMATION CONTACT: Bill Chatfield, Mailing Standards, U.S. Postal Service, 475 L'Enfant Plaza SW., RM 3436, Washington, DC 20260-3436; 202-268-7278.

SUPPLEMENTARY INFORMATION: Postal Service automated flat sorting machines (AFSM 100s) process the majority of non-carrier route flat-size mail. To improve our ability to process polywrapped pieces on our primary flat-mail processing equipment, we published a proposed rule in the Federal Register on August 22, 2006 (71 FR 48868), regarding polywrap used on automation-rate flat-size mailpieces.

Our proposed rule included the following changes:

• We removed two characteristics, tensile strength and density, because they were irrelevant to performance.

• We removed the “USPS AFSM 100 Approved Polywrap” endorsement requirement.

• We modified the testing protocol to measure the minimum film-to-metal coefficient of friction.

• We increased the allowable film-to-film coefficient of friction to be more compatible with mailer bindery operations.

• We changed the method to measure blocking to more closely match the environment that mailpieces undergo during normal transportation and storage.

The new standards eliminate the difference in polywrap specifications for mailpieces designed for processing on the AFSM 100 and the upgraded flat sorting machine (UFSM) 1000.

Comments Received

We received comments and questions on the proposed rule from two customers. One customer suggested that we allow successful testing of the thinnest gauge of a specific polywrap film to suffice for certification of all thicknesses of the same film. We made that change in the final standards.

Another customer raised several questions. One question pertained to how the Postal Service would process UFSM 1000 pieces in the future. Pieces with polywrap meeting either the old specifications or the new specifications may be processed on a UFSM 1000 machine. Another question was about how the changes would impact the standard that requires a “Periodicals” endorsement for mailpieces with a wrapper. This rule does not change any standards for Periodicals, but, as information, the “Periodicals” endorsement may be placed on either the mailpiece contents or the polywrap. Another question was about polywrap film meeting all of the new specifications except haze when the address information is on the outside of the film. Such a film will remain eligible as it is under current standards.

A customer commented about the testing specification, USPS-T-3204, Test Procedures for Automatable Polywrap Films, listed on our Rapid Information Bulletin Board System (RIBBS). The specification indicated that the tests were required for polywrap film used on AFSM 100-qualifying pieces, whereas the proposed rule stated that the new standards would apply for polywrap used on all automation-rate flats. We revised the testing specification to indicate that the new specifications apply to polywrap used on all automation-rate flats. The customer also questioned if the supplementary testing indicated in the specification would be required in addition to the American Society for Testing and Materials (ASTM) tests. As noted in the testing specification, some of the testing methods required are necessary supplements to each other.

New Test Procedures

To ensure that all manufacturers use the same criteria in meeting the new specifications, we developed USPS-T-3204, Test Procedures for Automatable Polywrap Films. Manufacturers may obtain the new test procedures at http://ribbs.usps.gov (click on “Polywrap Manufacturers” in the left frame) or by contacting the Postal Service's Engineering office at: Engineering, Flat Mail Technology, U.S. Postal Service, 8403 Lee Hwy, Merrifield VA 22082-8101.

The specification describes exact test procedures and acceptable values for polywrap film characteristics. If the manufacturer lacks the facilities or experience to conduct each of the test procedures in USPS-T-3204, the specification also provides a list of testing laboratories that have experience in conducting these tests.

Polywrap Certification

Currently, manufacturers must provide us with a certificate stating that their film complies with polywrap specifications before we include the film in the list of approved polywrap for flat-size mailpieces mailed at automation rates.

We will require manufacturers to provide an updated certificate of conformance on their letterhead to the Postal Service's Mailing Standards office after verifying that each polywrap film meets the new characteristics. The certificate of conformance must state the values of the six characteristics for each film to be listed as approved.

Implementation

As of February 4, 2007, polywrap not meeting the new standards will no longer be listed as approved for automation rates, but we will allow mailpieces presented with “old” polywrap on automation-rate flats through March 3, 2007. The conditions for mailing are as follows:

• Mailpieces with polywrap approved for AFSM 100 pieces under the “old” standards will be accepted at automation flat rates through March 3, 2007.

• Beginning March 4, 2007, mailers who present polywrapped flats that do not meet the new standards for polywrap may request an exception to the new standards in writing. Requests will be handled on a case-by-case basis.

We will incorporate the following revisions into the next printed version of Mailing Standards of the United States Post Service, Domestic Mail Manual (DMM) and into the next monthly update of the online DMM available via Postal Explorer® at pe.usps.com. We encourage manufacturers to certify their polywrap under the new standards as soon as possible, but no later than February 3, 2007. We encourage mailers to use polywrap meeting the new specifications on their mailpieces as soon as practical. Beginning March 4, 2007, all polywrap films used an automation-rate flat-size mailpieces must meet the new standards.

List of Subjects in 39 CFR Part 111

Administrative practice and procedure, Postal Service.

PART 111—[AMENDED]

1. The authority citation for 39 CFR part 111 continues to read as follows:

Authority: 5 U.S.C. 552(a); 39 U.S.C. 101, 401, 403, 404, 3001-3011, 3201-3219, 3403-3406, 3621, 3626, 5001.

2. Amend the following sections of Mailing Standards of the United States Postal Service, Domestic Mail Manual (DMM), as explained below:

300 Discount Flats

301 Physical Standards

* * * * *

3.0 Physical Standards for Automation Flats

* * * * *

3.5 Polywrap Coverings

3.5.1 Polywrap Films

[Revise 3.5.1 by changing the introduction and removing items a and b to eliminate the distinction between polywrap used on pieces qualifying for the AFSM 100 and the UFSM 1000, as follows:]

Polywrapped flat-size mailpieces claimed at automation rates must meet the standards in 3.5 Film approved for use under 3.5.4 and 3.5.5 must meet the specifications in Exhibit 3.5.1. If mailers affix the address label to the outside of the polywrap, the film need not meet the haze property.

[Revise title of Exhibit 3.5.1 as follows:]

Exhibit 3.5.1 Polywrap Specifications

[Revise Exhibit 3.5.1 by changing the introduction, eliminating the distinction between AFSM 100 and UFSM 1000 pieces, removing current properties 4 and 5 and renumbering current properties 6 through 8 as new properties 4 through 6, changing the specifications and testing methods for coefficients of friction, revising the comments for “blocking,” and specifying testing methods, as follows:]

Effective March 4, 2007, mailers who polywrap automation-rate flats must use polywrap that meets all of the properties in this exhibit.

Property | Requirement | Test methods in USPS T-3204 | Comment
1. Kinetic Coefficient of Friction, MD:
a. Film on Stainless Steel with No. 8 (Mirror) Finish | <0.45 | USPS-T-3204. Section 4.5.2.
b. Film on Film | 0.20 to 0.55 | USPS-T-3204. Section 4.5.1.
2. Haze | <70 | USPS-T-3204 Section 4.5.3. | Affixing address labels to outside of polywrap is an alternative to meeting this requirement.
3. Secant Modulus, 1% elongation:
a. TD | >50,000 psi | USPS-T-3204. Section 4.5.4.
b. MD | >40,000 psi | USPS-T-3204. Section 4.5.4.
4. Nominal Gauge | >0.001 in | USPS-T-3204. Section 4.5.5.
5. Static Charge | <2.0 kV | USPS-T-3204. Section 4.5.7.
6. Blocking | <15 g | USPS-T-3204 Section 4.5.6. | To be conducted at 140 (±3.6°) degrees Fahrenheit.

* * * * *

[Delete 3.5.4 to remove the requirement for markings on polywrap.] [Renumber current 3.5.5 as new 3.5.4 and revise the title and text to require polywrap meeting new standards as of March 4, 2007, as follows:]

3.5.4 Polywrap on Mailpieces

Effective March 4, 2007, mailers claiming automation flat rates for polywrapped pieces must use polywrap that meets the new specifications in 3.5.1. Only products listed on the USPS RIBBS Web site (http://ribbs.usps.gov) may be used on automation-rate flats. [Add new 3.5.5 to specify the certification process for polywrap manufacturers, as follows:]

3.5.5 Polywrap Certification Process for Manufacturers

To ensure that all polywrap manufacturers use the same criteria in meeting the new specifications, the Postal Service developed specification USPS-T-3204, Test Procedures for Automatable Polywrap Films. This specification describes exact test procedures and acceptable values for polywrap film characteristics. Independent testing laboratories may certify products for manufacturers who do not have the facilities or experience to conduct each of the test procedures in specification USPS-T-3204. The specification includes a list of laboratories experienced in conducting these tests. Customers may obtain the new test procedures by contacting USPS Engineering (see 608.8.1 for address) or on the USPS RIBBS Web site (http://ribbs.usps.gov). Effective February 4, 2007, manufacturers must submit a letter, on their letterhead, indicating the value for each of the specifications in 3.5.1 for each polywrap film, to USPS Mailing Standards (see 608.8.1 for address). Manufacturers are encouraged to submit the certificate of conformance before February 4, 2007. When USPS receives the certificate of conformance, films with values meeting the standards will be listed on http://ribbs.usps.gov. Manufacturers should follow this process before submitting the letter certifying compliance with the specifications:

a. Test each film according to procedures listed in USPS-T-3204, Test Procedures for Automatable Polywrap Films.

b. Test each surface treatment separately. Manufacturers may test the thinnest film of one product with identical surface treatment and characteristics. If the thinnest film satisfactorily meets the characteristics after being tested, USPS will list the product as approved for all gauges of that product that also meet the gauge test.

* * * * *

Neva R. Watson,
Attorney, Legislative.

[FR Doc. 06-9979 Filed 1-4-07; 8:45 am]

BILLING CODE 7710-12-M